DEPARTMENT OF THE INTERIOR

Bureau of Indian Affairs

[AAK6006201 134A2100DD AOR3B3030.999900]

Notice of Intent To Prepare an Environmental Impact Statement for the Proposed Wilton Rancheria Fee-to-Trust and Casino Project, Sacramento County, California

AGENCY: Bureau of Indian Affairs, Interior.

ACTION: Notice.

SUMMARY: This notice advises the public that the Bureau of Indian Affairs (BIA) as lead agency intends to gather information necessary for preparing an environmental impact statement (EIS) in connection with the Wilton Rancheria's (Tribe) application requesting that the United States acquire land in trust in Sacramento County, California, for the construction and operation of a gaming facility.

DATES: Written comments on the scope of the EIS must arrive by January 6, 2014. The public scoping meeting will be held on December 19, 2013, from 6 p.m. to 9 p.m., or until the last public comment is received.

ADDRESSES: You may mail or hand-deliver written comments to Amy Dutschke, Regional Director, Bureau of Indian Affairs, Pacific Region, 2800 Cottage Way, Sacramento, California 95825. Please include your name, return address, and “NOI Comments, Wilton Rancheria Project” on the first page of your written comments. The scoping meeting will be held at the Chabolla Community Center, 600 Chabolla Ave., Galt, California 95632.

FOR FURTHER INFORMATION CONTACT: John Rydzik, Chief, Division of Environmental, Cultural Resource Management and Safety, Bureau of Indian Affairs, Pacific Regional Office, 2800 Cottage Way, Sacramento, Room W-2820, California 95825, telephone (916) 978-6051, email john.rydzik@bia.gov.

SUPPLEMENTARY INFORMATION: The Tribe has sumitted an application to the Department requesting the placement of approximately 282 acres of fee land in trust by the United States upon which the Tribe would construct a gaming facility. Accordingly, the proposed action for the Department is the acquisition requested by the Tribe. The proposed fee-to-trust property is located within the City of Galt Sphere of Influence Area in unincorporated Sacramento County, California, north of Twin Cities Road between State Highway 99 and the Union Pacific Railroad tracks. The Sacramento County Assessor's parcel numbers (APNs) for the site are 148-0010-018, 148-0041-009, 148-0041-006, 148-0041-004, 148-0041-001, 148-0031-007, and 148-0010-060. The purpose of the proposed action is to improve the economic status of the Tribal government so it can better provide housing, health care, education, cultural programs, and other services to its members.

The proposed action encompasses the various Federal approvals which may be required to implement the Tribe's proposed economic development project, including approval of the Tribe's fee-to-trust application. The EIS will identify and evaluate issues related to these approvals, and will also evaluate a range of reasonable alternatives.

Areas of environmental concern identified for analysis in the EIS include land resources; water resources; air quality; noise; biological resources; cultural/historical/archaeological resources; resource use patterns; traffic and transportation; public health and safety; hazardous materials and hazardous wastes; public services and utilities; socioeconomics; environmental justice; visual resources/aesthetics; and cumulative, indirect, and growth-inducing effects. The range of issues and alternatives to be addressed in the EIS may be expanded or reduced based on comments received in response to this notice and at the public scoping meeting. Additional information, including a map of the project site, is available by contacting the person listed in the FOR FURTHER INFORMATION CONTACT section of this notice.

Public Comment Availability: Comments, including names and addresses of respondents, will be available for public review at the BIA address shown in the ADDRESSES section, during regular business hours, 8 a.m. to 4:30 p.m., Monday through Friday, except holidays. Before including your address, telephone number, email address, or other personal identifying information in your comment, you should be aware that your entire comment—including your personal identifying information—may be made publicly available at any time. While you can ask in your comment that your personal identifying information be withheld from public review, the BIA cannot guarantee that this will occur.

Authority: This notice is published in accordance with sections 1503.1 and 1506.6 of the Council on Environmental Quality Regulations (40 CFR Parts 1500 through 1508) implementing the procedural requirements of the National Environmental Policy Act of 1969, as amended (42 U.S.C. 4321-4345 et seq.), and the Department of the Interior National Environmental Policy Act Implementation Policy (43 CFR part 46), and is in the exercise of authority delegated to the Assistant Secretary—Indian Affairs by 209 DM 8.

Dated: November 26, 2013.
Kevin K. Washburn,
Assistant Secretary—Indian Affairs.

[FR Doc. 2013-29009 Filed 12-3-13; 8:45 am]

BILLING CODE 4310-W7-P